DEPARTMENT OF HEALTH AND HUMAN SERVICES

National Institutes of Health

National Cancer Institute; Amended Notice of Meeting

Notice is hereby given of a change in the meeting of the National Cancer Institute Clinical Trials and Translational Research Advisory Committee, March 13, 2013, 9:00 a.m. to March 13, 2013, 4:00 p.m., National Institutes of Health, Building 31, C-Wing, 6th Floor, 31 Center Drive, Conference Rooms 9 and 10, Bethesda, MD 20892 which was published in the Federal Register on January 3, 2013, 78 FR 312.

The meeting notice is amended to change the end time of the meeting on March 13, 2013 from 4:00 p.m. to 2:00 p.m. The meeting is open to the public.

Dated: February 25, 2013.
Melanie J. Gray,
Program Analyst, Office of Federal Advisory Committee Policy.

[FR Doc. 2013-04738 Filed 2-28-13; 8:45 am]

BILLING CODE 4140-01-P